FEDERAL COMMUNICATIONS COMMISSION

47 CFR Part 73

[DA No. 00-835; MM Docket No. 99-302; RM-9727]

Radio Broadcasting Services; Monahans and Gardendale, TX

AGENCY: Federal Communications Commission.

ACTION: Final rule.

SUMMARY: This document reallots Channel 271C from Monahans, Texas, to Gardendale, Texas, and modifies the license for Station KFZX (formerly KCDQ) to specify operation on Channel 271C at Gardendale in response to a petition filed by Capstar Royalty II Corporation See 64 FR 57835, October 27, 1999. The coordinates for Channel 271C at Gardendale are 31-57-55 and 102-46-10. With this action, this proceeding is terminated.

EFFECTIVE DATE: May 30, 2000.

FOR FURTHER INFORMATION CONTACT: Kathleen Scheuerle, Mass Media Bureau, (202) 418-2180.

SUPPLEMENTARY INFORMATION: This is a summary of the Commission's Report and Order, MM Docket No. 99-302, adopted April 5, 2000, and released April 14, 2000. The full text of this Commission decision is available for inspection and copying during normal business hours in the Commission's Reference Center, 445 12th Street, SW, Washington, DC. The complete text of this decision may also be purchased from the Commission's copy contractors, International Transcription Services, Inc., 1231 20th Street, NW., Washington, DC. 20036, (202) 857-3800, facsimile (202) 857-3805.

List of Subjects in 47 CFR Part 73

Radio broadcasting.

Part 73 of title 47 of the Code of Federal Regulations is amended as follows:

PART 73—[AMENDED]

1. The authority citation for Part 73 continues to read as follows:

Authority: 47 U.S.C. 154, 303, 334 and 336.

§ 73.202 [Amended]

2. Section 73.202(b), the Table of FM Allotments under Texas, is amended by removing Channel 271C at Monahans and adding Gardendale, Channel 271C.

Federal Communications Commission.
John A. Karousos,
Chief, Allocations Branch, Policy and Rules Division, Mass Media Bureau.

[FR Doc. 00-10759 Filed 5-1-00; 8:45 am]

BILLING CODE 6712-01-P